GENERAL SERVICES ADMINISTRATION

[Notice-MG-2024-01; Docket No.2024-0002; Sequence No.19]

Office of Federal High-Performance Green Buildings; Green Building Advisory Committee; Notification of Upcoming Public Meetings

AGENCY: Office of Government-wide Policy, General Services Administration (GSA).

ACTION: Meeting notice.

SUMMARY: In accordance with the requirements of the Federal Advisory Committee Act, this notice provides the agenda for a series of web-based meetings of the Green Building Advisory Committee's, (the Committee), Federal Buy Clean Implications Task Group (the Task Group).

The meetings are open to the public to observe; online attendees are required to register in advance to attend as instructed below.

DATES: The Committee's Federal Buy Clean Act Implications Task Group will hold a series of web-based meetings on alternate Thursdays from May 23, 2024, through February 27, 2025, from 3:00 p.m. to 4:00 p.m., Eastern Time (ET).

FOR FURTHER INFORMATION CONTACT: Mr. Michael Bloom, Designated Federal Officer, Office of Federal High-Performance Green Buildings, Office of Government-wide Policy, GSA, 1800 F Street NW, (Mail-code: MG), Washington, DC 20405, at gbac@gsa.gov or 312-805-6799. Additional information about the Committee, including meeting materials and agendas, will be made available on-line at https://www.gsa.gov/gbac.

SUPPLEMENTARY INFORMATION:

Procedures for Attendance and Public Comment

To register to observe any or all of these meetings, please send the following information via email to gbac@gsa.gov: your first and last name, organization and email address and whether you would like to provide public comment.

Requests to observe the full series of Task Group meetings must be received by 5:00 p.m. ET, on Tuesday, May 21, 2024. After that time, requests to observe ongoing Task Group meetings must be received by 5:00 p.m. ET on the Tuesday before the meeting in question. Since Task Group meetings are conducted as a series, it will be most useful to observe all or most of them from the start.

For all online meetings, web meeting attendance information will be provided following registration. Time will be provided at all meetings for public comment wherever possible.

GSA will be unable to provide technical assistance to any listener experiencing technical difficulties. Testing access to the web meeting site before the calls is recommended. To request an accommodation, such as closed captioning, or to ask about accessibility, please contact Mr. Bloom at gbac@gsa.gov at least five business days prior to the meeting to give GSA as much time as possible to process the request.

Background

The Administrator of GSA established the Committee on June 20, 2011 (Federal Register/Vol. 76, No. 118) pursuant to Section 494 of the Energy Independence and Security Act of 2007 (EISA, 42 U.S.C. 17123). Under this authority, the Committee provides independent policy advice and recommendations to GSA to advance federal building innovations in planning, design, and operations to reduce costs, enable agency missions, enhance human health and performance, and minimize environmental impacts.

Federal Buy Clean Implications Task Group

The Federal Buy Clean Implications Task Group will continue the Committee's work on the topic of Building Decarbonization by assessing the impact of the Federal Buy Clean Initiative within the broader scope of the Inflation Reduction Act, focusing on its influence on procurement practices and material selection in Federal Buildings.

The purpose of these web-based meetings is for the Task Group to develop consensus recommendations for submission to the full Committee. The Committee will, in turn, deliberate on the Task Group recommendations and decide whether to proceed with formal advice to GSA based upon them.

Brian Gilligan,
Acting Federal Director, Office of Federal High-Performance Green Buildings, General Services Administration.

[FR Doc. 2024-09875 Filed 5-6-24; 8:45 am]

BILLING CODE 6820-14-P